DEPARTMENT OF DEFENSE

48 CFR Part 223

[DFARS Case 2001-D005]

Defense Federal Acquisition Regulation Supplement; Use of Recovered Materials

AGENCY: Department of Defense (DoD).

ACTION: Final rule.

SUMMARY: DoD has issued a final rule amending the Defense Federal Acquisition Regulation Supplement (DFARS) to remove approval requirements pertaining to the acquisition of items that do not meet Environmental Protection Agency (EPA) minimum recovered material standards. The DFARS requirements are no longer necessary as a result of changes made to the Federal Acquisition Regulation (FAR) in Item III of Federal Acquisition Circular (FAC) 97-18.

EFFECTIVE DATE: October 1, 2001.

FOR FURTHER INFORMATION CONTACT: Ms. Sandra Haberlin, Defense Acquisition Regulations Council, OUSD (AT&L) DP (DAR), IMD 3C132, 3062 Defense Pentagon, Washington, DC 20301-3062. Telephone (703) 602-0289; facsimile (703) 602-0350. Please cite DFARS Case 2001-D005.

SUPPLEMENTARY INFORMATION:

A. Background

This final rule—

• Removes DFARS 223.404(b)(3). FAR 223.404(b)(3) had required a written determination approved by an official designated by the agency head if the agency was acquiring EPA designated items that did not meet the EPA minimum recovered material standards. DFARS 223.404(b)(3) designated the approval officials for DoD. Since Item III of FAC 97-18 (65 FR 36016, June 6, 2000) removed the written determination requirement from the FAR, the corresponding levels of approval are removed from the DFARS; and

• Moves the text at DFARS 223.404(b)(4) to DFARS 223.405(d), since Item III of FAC 97-18 moved the corresponding text from FAR 223.404(b)(4) to FAR 223.405(d).

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subparts in accordance with 5 U.S.C. 610. Such comments should cite DFARS Case 2001-D005.

C. Paperwork Reduction Act

The Paperwork Reduction Act does not apply because the rule does not impose any information collection requirements that require the approval of the Office of Management and Budget under 44 U.S.C. 3501, et seq.

List of Subjects in 48 CFR Part 223

Government procurement.

Michele P. Peterson,
Executive Editor, Defense Acquisition Regulations Council.

Therefore, 48 CFR part 223 is amended as follows:

1. The authority citation for 48 CFR Part 223 continues to read as follows:

Authority: 41 U.S.C. 421 and 48 CFR Chapter 1.

PART 223—ENVIRONMENT, CONSERVATION, OCCUPATIONAL SAFETY, AND DRUG-FREE WORKPLACE

223.404 [Removed]

2. Section 223.404 is removed.

3. Section 223.405 is added to read as follows:

223.405 Procedures.

(d) Departments and agencies must centrally collect information submitted in accordance with the clause at FAR 52.223-9 for reporting to the Office of the Deputy Under Secretary of Defense (Environmental Security).

[FR Doc. 01-24388 Filed 9-28-01; 8:45 am]

BILLING CODE 5000-04-M